DEPARTMENT OF THE INTERIOR

Fish and Wildlife Service

[FWS-R5-R-2009-N202; BAC-4311-K9-S3]

Eastern Neck National Wildlife Refuge, Kent County, MD

AGENCY: Fish and Wildlife Service, Interior.

ACTION: Notice of availability of final comprehensive conservation plan and finding of no significant impact for environmental assessment.

SUMMARY: We, the U.S. Fish and Wildlife Service (Service), announce the availability of our final comprehensive conservation plan (CCP) and finding of no significant impact (FONSI) for the environmental assessment (EA) for Eastern Neck National Wildlife Refuge (NWR). In this final CCP, we describe how we will manage this refuge for the next 15 years.

ADDRESSES: You may view or obtain copies of the final CCP and FONSI by any of the following methods. You may request a hard copy or CD-ROM.

Agency Web Site: Download a copy of the document(s) at http://www.fws.gov/northeast/planning/Eastern%20Neck/ccphome.html.

Electronic mail: northeastplanning@fws.gov. Include “Eastern Neck Final CCP” in the subject line of the message.

U.S. Postal Service: Suzanne Baird, Project Leader, Chesapeake Marshlands NWR Complex, 2145 Key Wallace Drive, Cambridge, MD 21613.

In-Person Viewing or Pickup: Call 410-228-2692 to make an appointment during regular business hours at refuge complex headquarters in Cambridge, Maryland.

FOR FURTHER INFORMATION CONTACT: Suzanne Baird, Project Leader, Chesapeake Marshlands NWR Complex, 2145 Key Wallace Drive, Cambridge, MD 21613; phone: 410-228-2692 extension 101; electronic mail: suzanne_baird@fws.gov.

SUPPLEMENTARY INFORMATION:

Introduction

With this notice, we finalize the CCP process for Eastern Neck NWR. We started this plan's development through a notice in the Federal Register on June 11, 2002 (67 FR 40002). Because of changes in budget and staffing priorities, we put the project on hold in 2003. We restarted the process, publishing another notice in the Federal Register on January 22, 2007 (72 FR 2709). We released the draft CCP/EA to the public, announcing and requesting comments in a notice of availability in the Federal Register on September 9, 2009 (74 FR 46456).

Eastern Neck NWR, a 2,286-acre island, was established in 1962 to protect and conserve migratory birds. The refuge lies at the confluence of the Chester River and Chesapeake Bay, and is regionally important as foraging and resting habitat for a wide variety of migratory birds and wintering waterfowl. Refuge habitats are highly diverse, and include tidal marsh, open water, and woodland. The refuge's managed croplands specifically benefit waterfowl by providing a ready source of high-energy food during winter when their reserves are low, as well as a secure area to forage during hunting season. The moist soil units (MSU) and green tree reservoirs on the refuge are also managed to enhance habitats for waterfowl and other migratory birds. Thousands of Atlantic population Canada geese and black ducks winter here, as do large rafts of ruddy ducks, canvasbacks, and greater and lesser scaup. Of particular note are the wintering tundra swans that use the adjacent shallow waters. A small number of the Federally listed endangered Delmarva fox squirrel (Sciurus niger cinereus) occur on the refuge, as do nesting bald eagles and more than 60 migratory bird species of conservation concern.

Although conserving wildlife and habitat is the refuge's first priority, the public can observe and photograph wildlife, fish, hunt, or participate in environmental education and interpretation programs. To facilitate those activities, we maintain self-guiding trails, fishing and observation platforms, and photography blinds. School groups come throughout the year for our educational and interpretive programs. An annual deer hunt and youth turkey hunt are also very popular activities on the refuge. All programs benefit from the active involvement of the Friends of Eastern Neck and refuge volunteers.

We announce our decision and the availability of the FONSI for the final CCP for Eastern Neck NWR in accordance with National Environmental Policy Act (40 CFR 1506.6(b)) requirements. We completed a thorough analysis of impacts on the human environment, which we included in the draft CCP/EA.

The CCP will guide us in managing and administering Eastern Neck NWR for the next 15 years. Alternative B, as we described in the draft CCP/EA, is the foundation for the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and goals and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP/EA (74 FR 46456) addressed several key issues, including the protection and restoration of shoreline, tidal marsh, and submerged aquatic vegetation; invasive plant and exotic species control; management for waterfowl and other species of conservation concern; wetland and upland habitat management; archeological and culture resource protection; and enhancement of public use programs.

To address these issues and develop a plan based on the purposes for establishing the refuge, and the vision and goals we identified, we evaluated three alternatives in the draft CCP/EA. The alternatives have some actions in common, such as protecting and monitoring Federally listed and recently delisted species, controlling invasive species and monitoring wildlife diseases, encouraging research that benefits our resource decisions, protecting cultural resources, and distributing refuge revenue-sharing payments to Kent County.

Other actions distinguish the alternatives. Alternative A, or the “No Action Alternative,” is defined by our current management activities. It serves as the baseline against which to compare the other two alternatives. Our habitat management and visitor services programs would not change under this alternative. We would continue to use the same tools and techniques, and not expand existing facilities.

Alternative B, the “Service-Preferred Alternative,” reflects a management emphasis on protection and restoration of the refuge's shoreline and tidal marshes. Priorities under this alternative are expanding our shoreline and tidal marsh protection and restoration program, managing wetlands and uplands to benefit migratory waterfowl, consolidating and reducing the acreage of managed croplands, and increasing the diversity, health, and distribution of the refuge's deciduous-mixed forest to benefit forest-dependent migratory and resident birds. Our public-use programs would be enhanced, but not expanded. In addition to continuing to offer wildlife observation, wildlife photography, deer hunting, youth turkey hunting, recreational crabbing, and fishing opportunities, we would augment our environmental education program with volunteer-led programs and increased involvement with the local school district. We would also seek funding for two new refuge complex staff positions assigned to Eastern Neck NWR: a biological technician and a park ranger (law enforcement).

Alternative C resembles alternative B in its focus on the protection and restoration of shoreline and tidal marsh; however, it is distinguished by its emphasis on forest management and natural succession and the expansion of public-use opportunities. Under alternative C, we would manage the transition of existing croplands, grasslands, and shrublands to deciduous-mixed forest. Under alternative C, we would enhance and expand our public-use programs to include year-round use of the Ingleside Recreational Area, an extension of the Tundra Swan boardwalk, additional environmental education programs, new interpretive signage, and an all-age turkey hunt. We would also evaluate adding a new trail and car-top boat launch on the southern portion of the refuge.

Comments

We solicited comments on the draft CCP/EA for Eastern Neck NWR from September 9, 2009, through October 30, 2009 (74 FR 46456). We received comments from 42 individuals, organizations, and State and Federal agencies on our draft plan via electronic mail, phone, and letters. We evaluated all received comments. A summary of those comments and our responses to them is included as Appendix H in the final CCP.

Selected Alternative

After considering the comments we received on our draft CCP/EA, and after conducting a field review with Service and Maryland Department of Natural Resources staff, we made six modifications to Alternative B to include in the final CCP. First, we will create three larger MSUs totaling 22 acres, instead of the four smaller ones we originally proposed. Second, we will reduce the acres in cropland management from the existing 557 acres to 403 acres (a 28-percent reduction), instead of reducing it to 372 acres (a 33-percent reduction) as originally proposed in the draft CCP/EA. The 31 acres that will remain in cropland are fields which, upon further examination, receive high wildlife use and will facilitate wildlife observation and photography along public access roads. Third, we will maintain two hedgerows we planned to remove in the draft CCP/EA, since subsequent field evaluation indicates they contribute to habitat diversity, reduce the erosive forces of wind and storm events on adjacent fields, and facilitate wildlife observation and photography along public access roads. Fourth, the plan to retain the two hedgerows and adjacent cropland reduces the need and benefit of moving the headquarters road, which we had proposed in the draft CCP/EA. Because of the reduced need and benefit described above, coupled with public concern about the expense, we have dropped from the final CCP the proposal to move the road. Fifth, we will increase our shoreline and tidal marsh protection programs to include an additional 3,000 linear feet along the northern portion of the refuge where shoreline loss has accelerated in recent years. All new major shoreline protection projects will require additional environmental analysis and public involvement. Sixth, we will modify the aggressive Phragmites control efforts described in the draft CCP/EA. There are certain areas where the loss of refuge shoreline is accelerating and the only protection is the presence of Phragmites, which helps dissipate the erosive forces of wind and wave action. Until we can establish native vegetation or other natural barriers to those impacts, we will scale back our Phragmites control efforts in certain high-risk areas.

We have selected alternative B with the changes identified above for implementation for several reasons. The modified alternative B comprises the mix of actions that, in our professional judgment, works best towards achieving refuge purposes, our vision and goals, and the goals of other State and regional conservation plans. We also believe it most effectively addresses the key issues raised during the planning process. The basis of our decision is detailed in the final CCP Appendix I—Finding of No Significant Impact.

Public Availability of Documents

You can view or obtain documents as indicated under ADDRESSES.

Dated: April 26, 2010.
James G. Geiger,
Acting Regional Director, Northeast Region, U.S. Fish and Wildlife Service, Hadley, MA 01035.

[FR Doc. 2010-9946 Filed 4-28-10; 8:45 am]

BILLING CODE 4310-55-P